DEPARTMENT OF LABOR

Employment and Training Administration

[TA-W-51,876]

Straits Steel and Wire Co., Ludington, MI; Notice of Termination of Investigation

Pursuant to section 221 of the Trade Act of 1974, as amended, and investigation was initiated on May 28, 2003 in response to a worker petition filed by a company official on behalf of workers at Straits Steel and Wire Company, Ludington, Michigan.

The petitioner has requested that the petition be withdrawn. Consequently, the investigation has been terminated.

Signed at Washington, DC, this 23rd day of June, 2003.
Elliott S. Kushner,
Certifying Officer, Division of Trade Adjustment Assistance.

[FR Doc. 03-16911 Filed 7-2-03; 8:45 am]

BILLING CODE 4510-30-M